SOCIAL SECURITY ADMINISTRATION

Agency Information Collection Activities: Proposed Request and Comment Request

The Social Security Administration (SSA) publishes a list of information collection packages requiring clearance by the Office of Management and Budget (OMB) in compliance with Public Law 104-13, the Paperwork Reduction Act (PRA) of 1995, effective October 1, 1995. This notice includes revisions and one extension of OMB-approved information collections, information collections in use without an OMB number, and a new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: (202) 395-6974, Email address: OIRA_Submission@omb.eop.gov.

(SSA), Social Security Administration, DCRDP, Attn: Reports Clearance Officer, 107 Altmeyer Building, 6401 Security Blvd., Baltimore, MD 21235, Fax: (410) 966-2830, Email address: OPLM.RCO@ssa.gov.

I

The information collections below are pending at SSA. SSA will submit them to OMB within 60 days from the date of this notice. To be sure we consider your comments, we must receive them no later than March 13, 2012. Individuals can obtain copies of the collection instruments by calling the SSA Reports Clearance Officer at (410) 965-8783 or by writing to the above email address.

1. Request for Documents or Information—20 CFR 404.703—0960-NEW. SSA asks individuals applying for Social Security benefits for additional information when the information they provided is incomplete or insufficient for us to determine their eligibility for benefits. SSA uses Form SSA-2118-U2, Request for Documents or Information, to request the additional documents or information we need to process individuals' claims for benefits. Respondents are claimants for title II Social Security Old Age, Survivors, and Disability Insurance (OASDI) benefits.

Type of Request: Existing collection in use without an OMB number.

Collection instrument | Number of respondents | Frequency of response | Average burden per response (minutes) | Estimated total annual burden (hours)
SSA-2118-U2 | 7,500 | 1 | 5 | 625

2. Notice to Show Cause for Failure to Appear—20 CFR 404.938, 416.1438, 404.957(a)(ii)—0960-NEW. In situations where claimants who requested a hearing before an administrative law judge (ALJ) fail to appear at their scheduled hearings, the ALJ may reschedule the hearing if the claimants establish good cause for missing the hearings. The claimants can provide a reason for not appearing at their scheduled hearings using Form HA-L90. If the ALJ determines the claimants established good cause for failure to appear at the hearings, the ALJ will schedule a supplemental hearing; if not, the ALJ makes a claims eligibility determination based on the claimants' evidence of record. Respondents are claimants seeking to show cause for failure to appear at a scheduled hearing before an ALJ.

Type of Request: Existing collection in use without an OMB number.

Collection instrument | Number of respondents | Frequency of response | Average burden per response (minutes) | Estimated total annual burden (hours)
HA-L90 PDF/Paper | 7,000 | 1 | 10 | 1,167
Electronic Records Express | 28,000 | 1 | 10 | 4,667
Total | 35,000 |  |  | 5,834

3. Permanent Residence in the United States Under Color of Law (PRUCOL)—20 CFR 416.1615 and 416.1618—0960-0451. As discussed in 20 CFR 416.1415 and 416.1618 of the Code of Federal Regulations, PRUCOL aliens must present evidence of their alien status when they apply for Supplemental Security Income (SSI) payments, and periodically thereafter as part of the eligibility re-determination process for SSI. SSA verifies the validity of the PRUCOL evidence for grandfathered nonqualified aliens with the Department of Homeland Security (DHS). SSA determines whether the individual is PRUCOL based on the DHS response. Without this information, SSA is unable to determine whether the individual is eligible for SSI payments. Respondents are qualified and unqualified aliens who apply for SSI payments under PRUCOL.

Type of Request: Extension of an OMB-approved information collection.

Collection instrument | Number of respondents | Frequency of response | Average burden per response (minutes) | Estimated total annual burden (hours)
Personal or Telephone Interview | 1,300 | 1 | 5 | 108

II

SSA submitted the information collections below to OMB for clearance. Your comments regarding the information collections would be most useful if OMB and SSA receive them within 30 days from the date of this publication. To be sure we consider your comments, we must receive them no later than February 13, 2012. Individuals can obtain copies of the OMB clearance packages by calling the SSA Reports Clearance Officer at (410) 965-8783 or by writing to the above email address.

1. Homeless with Schizophrenia Presumptive Disability Pilot Demonstration—45 CFR 46.101(b)(5)—0960—NEW. The Federal Strategic Plan to Prevent and End Homelessness 2010 calls on Federal agencies to work in partnership with State and local governments and with the private sector to end homelessness. A specific objective of the Strategic Plan is to increase economic security by improving access to mainstream programs and services.

In response to and in support of the President's efforts to end homelessness, SSA has developed the Homeless with Schizophrenia Presumptive Disability Pilot Demonstration, which tests both administrative improvements to the SSI application process and interventions that provide financial stability to individuals who are homeless. The pilot will test strategies that would remove the barriers homeless adult applicants with schizophrenia or schizoaffective disorder experience when completing the SSI application process.

SSA uses two key forms to conduct the demonstration: The Research Subject Information and Consent Form and the Schizophrenia Presumptive Disability Recommendation Form. The consent form provides assurances from the participants that they understand the demonstration project and voluntarily are consenting to participate in it. The Presumptive Disability Recommendation Form, filled out by a medical authority, provides information on how the applicant meets the disability criteria necessary to qualify for SSI benefits. SSA uses the information in making a presumptive disability determination. Respondents are homeless, adult SSI applicants with schizophrenia or schizoaffective disorder.

Type of Request: Request for a new information collection.

Collection instrument | Number of respondents | Frequency of response | Number of responses | Average burden per response (minutes) | Estimated total annual burden (hours)
Consent Form | 200 | 1 | (200) | 120 | 400
PD Recommendation Form | 16 | 13 | (208) | 10 | 35
Totals | 216 |  | (408) |  | 435

2. Partnership Questionnaire—20 CFR 404.1080-1082—0960-0025. SSA considers partnership income in determining entitlement to Social Security benefits. SSA uses information from the SSA-7104 to determine several aspects of eligibility for benefits, including the accuracy of reported partnership earnings, the veracity of a retirement, and lag earnings. The respondents are applicants for, and recipients of, title II Social Security OASDI benefits.

Type of Request: Revision of an OMB-approved information collection.

Collection instrument | Number of respondents | Frequency of response | (Number of responses) | Average burden per response (minutes) | Estimated total annual burden (hours)
SSA-7104 | 12,350 | 1 | 30 | 6,175

3. Supplement to Claim of Person Outside the United States—20 CFR 404.463, 20 CFR 422.505(b) and 20 CFR 407.27(c)—0960-0051. Claimants or beneficiaries (both United States {U.S.} citizens and aliens entitled to benefits) living outside the U.S. complete Form SSA-21 as a supplement to an application for benefits. SSA collects the information to determine eligibility for U.S. Social Security benefits for those months an alien beneficiary or claimant is outside the U.S., and to determine if tax withholding applies. In addition, SSA uses the information to terminate Supplemental Medical Insurance coverage for recipients who request it, because they are, or will be, out of the U.S. The respondents are individuals entitled to Social Security benefits who are, will be, or have been residing outside the U.S. for three months or longer.

Note: This is a correction notice. SSA published the incorrect burden information for this collection at 76 FR 65315, on 10/20/11. We are correcting this error here.

Type of Request: Revision of an OMB-approved information collection.

Collection instrument | Number of responses | Frequency of response | Average burden per response (minutes) | Estimated total annual burden (hours)
SSA-21 (non-residents) | 36,874 | 1 | 5 | 3,073
SSA-21 (U.S. citizens and residents) | 1,941 | 1 | 15 | 485
Totals | 38,815 |  |  | 3,558

4. Statement of Funds You Provided to Another and Statement of Funds You Received—20 CFR 404.1520(b), 404.1571-.1576, 404.1584-.1593 and 416.971-.976—0960-0059. SSA uses the SSA-821-BK to collect recipient employment information to determine whether recipients worked after becoming disabled and, if so, whether the work is substantial gainful activity (SGA). SSA's field offices use Form SSA-821-BK to obtain work information during the initial claims process, the continuing disability review process, and for SSI claims involving work issues. SSA's processing centers and the Office of Disability and International Operations use the form to document post-adjudicative work issues with recipients. SSA reviews and evaluates the data to determine if the applicant or recipient meets the disability requirements of the law. The respondents are applicants and recipients of Title II Social Security and SSI disability payments.

Note: This is a correction notice: SSA published the incorrect burden information for this collection at 76 FR 68805, on 11/07/11. We provide the correct burden data below.

Type of Request: Revision of an OMB-approved information collection.

Collection instrument | Number of respondents | Frequency of response | Average burden per response (minutes) | Estimated total annual burden (hours)
SSA-821-BK | 300,000 | 1 | 30 | 150,000

5. Application for a Social Security Number Card, and the Social Security Number Application Process (SSNAP)—20 CFR 422.103-422.110—0960-0066. SSA collects information on the SS-5 (used in the United States) and SS-5-FS (used outside the United States) to issue original or replacement Social Security cards. SSA also enters the application data into the Social Security Number Application Process (SSNAP) when applicants request a new or replacement card via telephone or in person.

In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security Number (SSN) and issue a Social Security card.

The respondents for this collection are applicants for original and replacement Social Security cards who use any of the modalities described above.

Type of Request: Revision of an OMB-approved information collection.

Application scenario | Number of respondents | Frequency of response | Average burden per response (minutes) | Estimated total annual burden (hours)
Respondents who do not have to provide parents' SSNs | 10,500,000 | 1 | 8.5 | 1,487,500
Respondents whom we ask to provide parents' SSNs (when applying for original SSN cards for children under age 18) | 400,000 | 1 | 9 | 60,000
Applicants age 12 or older who need to answer additional questions so SSA can determine whether we previously assigned an SSN | 1,100,000 | 1 | 9.5 | 174,167
Applicants asking for a replacement SSN card beyond the new allowable limits (i.e., who must provide additional documentation to accompany the application) | 600 | 1 | 60 | 600
Authorization to SSA to obtain personal information cover letter | 500 | 1 | 15 | 125
Authorization to SSA to obtain personal information follow-up cover letter | 500 | 1 | 15 | 125
Totals | 12,001,600 |  |  | 1,722,517

Cost Burden: The state BVSs incur costs of approximately $9.5 million for transmitting data to SSA's mainframe. However, SSA reimburses the states for these costs.

6. Application for Search of Census Records for Proof of Age—20 CFR 404.716-0960-0097. When preferred evidence of age is not available or the available evidence is not convincing, SSA may ask the U.S. Department of Commerce, Bureau of the Census, to search its records to establish a claimant's date of birth. SSA collects information from claimants using Form SSA-1535-U3 to provide the Census Bureau with sufficient identification information to allow an accurate search of census records. Additionally, the Census Bureau uses a completed, signed SSA-1535-U3 to bill SSA for the search. The respondents are applicants for Social Security benefits who need to establish their date of birth as a factor of entitlement.

Type of Request: Revision of an OMB-approved information collection.

Collection instrument | Number of respondents | Frequency of response | Average burden per response (minutes) | Estimated total annual burden (hours)
SSA-1535-U3 | 18,030 | 1 | 12 | 3,606

7. Medical Report on Adult with Allegation of Human Immunodeficiency Virus Infection; Medical Report on Child with Allegation of Human Immunodeficiency Virus Infection—20 CFR 416.933-20 CFR 416.934—0960-0500. SSA uses Forms SSA-4814-F5 and SSA-4815-F6 to collect information necessary to determine if an individual with human immunodeficiency virus infection who is applying for SSI disability benefits, meets the requirements for presumptive disability payments. The respondents are the medical sources of the applicants for SSI disability payments.

Collection instrument | Number of responses | Frequency of response | Average burden per response (minutes) | Estimated total annual burden (hours)
SSA-4814-F5 | 46,200 | 1 | 10 | 7,700
SSA-4815-F6 | 12,900 | 1 | 10 | 2,150
Totals | 59,100 |  |  | 9,850

8. Modified Benefit Formula Questionnaire—Foreign Pension—0960-0561. SSA uses Form SSA-308 to determine exactly how much (if any) of a foreign pension SSA may use to reduce the amount of title II Social Security retirement or disability benefits under the modified benefit formula. The respondents are applicants for title II Social Security retirement or disability benefits who have foreign pensions.

Type of Request: Revision of an OMB-approved information collection.

Collection instrument | Number of responses | Frequency of response | Average burden per response (minutes) | Estimated total annual burden (hours)
SSA-308 | 13,452 | 1 | 10 | 2,242

9. Medicare Subsidy Quality Review Forms—20 CFR 418(b)(5)-0960-0707. The Medicare Modernization Act of 2003 mandated the creation of the Medicare Part D prescription drug coverage program and provides certain subsidies for eligible Medicare beneficiaries to help pay for the cost of prescription drugs. As part of its stewardship duties of the Medicare Part D subsidy program, SSA must conduct periodic quality review checks of the information Medicare beneficiaries report on their subsidy applications (Form SSA-1020). SSA uses the Medicare Quality Review program to conduct these checks. The respondents are applicants for the Medicare Part D subsidy whom SSA chose to undergo a quality review.

Type of Request: Revision of an OMB-approved information collection.

Collection instrument | Number of respondents | Frequency of response | Average burden per response (minutes | Estimated total annual burden (hours)
SSA-9301 (Medicare Subsidy Quality Review Case Analysis Questionnaire) | 3,500 | 1 | 30 | 1,750
SSA-9302 (Notice of Quality Review Acknowledgement Form for those with Phones) | 3,500 | 1 | 15 | 875
SSA-9303 (Notice of Quality Review Acknowledgement Form for those without Phones) | 350 | 1 | 15 | 88
SSA-9304 (Checklist of Required Information; burden accounted for with Forms SSA-9302, SSA-9303, SSA-9311, SSA-9314) |  |  |  |
SSA-9308 (Request for Information) | 7,000 | 1 | 15 | 1,750
SSA-9310 (Request for Documents) | 3,500 | 1 | 5 | 292
SSA-9311 (Notice of Appointment—Denial-Reviewer Will Call) | 450 | 1 | 15 | 113
SSA-9312 (Notice of Appointment—Denial- Please Call Reviewer) | 50 | 1 | 15 | 13
SSA-9313 (Notice of Quality Review Acknowledgement Form for those with Phones) | 2,500 | 1 | 15 | 625
SSA-9314 (Notice of Quality Review Acknowledgement Form for those without Phones) | 500 | 1 | 15 | 125
SSA-8510 (Authorization to the Social Security Administration to Obtain Personal Information) | 3,500 | 1 | 5 | 292
Totals | 24,850 |  |  | 5,923

10. Application to Collect a Fee for Payee Service—20 CFR 416.640.640(a), 416.1103(f)—0960-0719. Sections 205(j)(4)(A) and (B) and 1631(a)(2) of the Social Security Act (Act) allow SSA to authorize certain organizational representative payees to collect a fee for providing payee services. Before an organization may collect this fee, they complete and submit Form SSA-445. SSA uses the information to determine whether to authorize or deny permission to collect fees for payee services. The respondents are private sector businesses or State and local government offices applying to become fee-for-service organizational representative payees.

Type of Request: Revision of an OMB-approved information collection.

Collection instrument | Number of responses | Frequency of response | Average burden per response (minutes) | Estimated total annual burden (hours)
Private sector business | 90 | 1 | 10 | 15
State/local government offices | 10 | 1 | 10 | 2
Totals | 100 |  |  | 17

Dated: January 10, 2012.
Faye Lipsky,
Reports Clearance Officer, Office of Regulations and Reports Clearance, Social Security Administration.

[FR Doc. 2012-580 Filed 1-12-12; 8:45 am]

BILLING CODE 4191-02-P